DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 16, 2001.

Interested persons are invited to submit written comments regarding the subject matter of the investigations to the Director, Division of Trade Adjustment Assistance, at the address shown below, not later than July 16, 2001.

The petitions filed in this case are available for inspection at the Office of the Director, Division of Trade Adjustment Assistance, Employment and Training Administration, U.S. Department of Labor, Room C-5311, 200 Constitution Avenue, NW., Washington, DC 20210.

Signed at Washington, DC, this 11th day of June, 2001.
Edward A. Tomchick,
Director, Division of Trade Adjustment Assistance.

APPENDIX
[Petitions Instituted on 06/11/2001]
TA-W | Subject firm (Petitioners) | Location | Date of petition | Product(s)
39,408 | Alcoa Fujikura (Co.) | El Paso, TX | 05/24/2001 | Administrative Service—Harnesses
39,409 | General Cable Corp (USWA) | Cass City, MI | 05/16/2001 | Wire and Cable
39,410 | North Star Steel (USWA) | Wilton, IA | 05/16/2001 | Steel Angles and Flats
39,411 | Johnson Electric Auto. (Co.) | Columbus, MS | 05/22/2001 | Small Motors
39,412 | M. Fine and Sons Mfg. (UNITE) | New Albany, IN | 05/25/2001 | Men's Work Shirts
39,413 | Sportswear USA (Co.) | Wallace, NC | 05/29/2001 | Boy's Suits, Blazers, Pants
39,414 | Marshall and Williams (Wkrs) | Providence, RI | 05/30/2001 | Tenter Clips for Textile Machinery
39,415 | Tyco Printed Circuit (Wkrs) | White City, OR | 05/22/2001 | Printed Circuit Boards
39,416 | Pillowtex Fieldcrest (UNITE) | Kannapolis, NC | 05/30/2001 | Home Furnishings
39,417 | Innovex (Wkrs) | Chandler, AZ | 05/24/2001 | Flexible Interconnect Circuits
39,418 | MCMS, Inc. (Wkrs) | Nampa, ID | 05/22/2001 | Circuit Boards
39,419 | Kentucky Electric (Co.) | Ashland, KY | 05/30/2001 | Steel Bar, Flats
39,420 | Price Pfister (Wkrs) | Pacoima, CA | 05/09/2001 | Water Faucets
39,421 | Dunbrook Industries (Co.) | Canton, SD | 05/17/2001 | Headwear
39,422 | Leatex Chemical (Co.) | Philadelphia, PA | 06/04/2001 | Speciality Chemicals

[FR Doc. 01-16844 Filed 7-3-01; 8:45 am]

BILLING CODE 4510-30-M